DEPARTMENT OF COMMERCE

Bureau of Industry and Security

[Docket No. 130807689-3689-01]

National Defense Stockpile Market Impact Committee Request for Public Comments on the Potential Market Impact of the Proposed Fiscal Year 2015 Annual Materials Plan

AGENCY: Bureau of Industry and Security, Commerce.

ACTION: Notice of inquiry.

SUMMARY: The purpose of this notice is to advise the public that the National Defense Stockpile Market Impact Committee, co-chaired by the Departments of Commerce and State, is seeking public comments on the potential market impact of the proposed Fiscal Year 2015 National Defense Stockpile Annual Materials Plan. The role of the Market Impact Committee is to advise the National Defense Stockpile Manager on the projected domestic and foreign economic effects of all acquisitions and disposals involving the stockpile and related material research and development projects. Public comments are an important element of the Committee's market impact review process.

DATES: To be considered, written comments must be received by December 13, 2013.

ADDRESSES: Address all comments concerning this notice to Michael Vaccaro, U.S. Department of Commerce, Bureau of Industry and Security, Office of Strategic Industries and Economic Security, 1401 Constitution Avenue NW., Room 3876, Washington, DC 20230, fax: (202) 482-5650 (Attn: Michael Vaccaro), email: MIC@bis.doc.gov; and Sean Ruthe, U.S. Department of State, Bureau of Energy Resources, 2201 C Street NW., Washington, DC 20520, fax: (202) 647-4037 (Attn: Sean Ruthe), or email: ruthesw@state.gov.

FOR FURTHER INFORMATION CONTACT: Michael Vaccaro, Office of Strategic Industries and Economic Security, Bureau of Industry and Security, U.S. Department of Commerce, telephone: (202) 482-8232, fax: (202) 482-5650 (Attn: Michael Vaccaro), email: MIC@bis.doc.gov.

SUPPLEMENTARY INFORMATION:

Background

Under the authority of the Strategic and Critical Materials Stock Piling Revision Act of 1979, as amended (the Stock Piling Act) (50 U.S.C. 98, et seq.), the Department of Defense's Defense Logistics Agency (DLA), as National Defense Stockpile Manager, maintains a stockpile of strategic and critical materials to supply the military, industrial, and essential civilian needs of the United States for national defense. Section 9(b)(2)(G)(ii) of the Stock Piling Act (50 U.S.C. 98(h)(b)(2)(G)(ii)) authorizes the National Defense Stockpile Manager to fund material research and development projects to develop new materials for the stockpile.

Section 3314 of the Fiscal Year (FY) 1993 National Defense Authorization Act (NDAA) (50 U.S.C. 98h-1) formally established a Market Impact Committee (the “Committee”) to “advise the National Defense Stockpile Manager on the projected domestic and foreign economic effects of all acquisitions and disposals of materials from the stockpile. . . .” The Committee must also balance market impact concerns with the statutory requirement to protect the U.S. Government against avoidable loss.

The Committee is comprised of representatives from the Departments of Commerce, State, Agriculture, Defense, Energy, Interior, the Treasury, and Homeland Security, and is co-chaired by the Departments of Commerce and State. The FY 1993 NDAA directs the Committee to consult with industry representatives that produce, process, or consume the materials stored in or of interest to the National Defense Stockpile Manager.

As the National Defense Stockpile Manager, the DLA must produce an Annual Materials Plan proposing the maximum quantity of each listed material that may be acquired, disposed of, upgraded, or sold by the DLA in a particular fiscal year. In Attachment 1, the DLA lists the quantities and type of activity (potential acquisition, potential disposal, or potential upgrade) associated with each material in its proposed FY 2015 Annual Materials Plan. The quantities listed in Attachment 1 are not acquisition, disposal, upgrade, or sales target quantities, but rather a statement of the proposed maximum quantity of each listed material that may be acquired, disposed of, upgraded, or sold in a particular fiscal year by the DLA as noted. The quantity of each material that will actually be acquired or offered for sale will depend on the market for the material at the time of the acquisition or offering, as well as on the quantity of each material approved for acquisition, disposal, or upgrade by Congress.

The Committee is seeking public comments on the potential market impact associated with the proposed FY 2015 AMP as enumerated in Attachment 1. Public comments are an important element of the Committee's market impact review process.

Submission of Comments

The Committee requests that interested parties provide written comments, supporting data and documentation, and any other relevant information on the potential market impact of the quantities associated with the proposed FY 2015 AMP. All comments must be submitted to the addresses indicated in this notice. All comments submitted through email must include the phrase “Market Impact Committee Notice of Inquiry” in the subject line.

The Committee encourages interested persons who wish to comment to do so at the earliest possible time. The period for submission of comments will close on December 13, 2013. The Committee will consider all comments received before the close of the comment period. Comments received after the end of the comment period will be considered, if possible, but their consideration cannot be assured.

All comments submitted in response to this notice will be made a matter of public record and will be available for public inspection and copying. Anyone submitting business confidential information should clearly identify the business confidential portion of the submission and also provide a non-confidential submission that can be placed in the public record. The Committee will seek to protect such information to the extent permitted by law.

The Office of Administration, Bureau of Industry and Security, U.S. Department of Commerce, displays public comments on the BIS Freedom of Information Act (FOIA) Web site at http://www.bis.doc.gov/foia. This office does not maintain a separate public inspection facility. If you have technical difficulties accessing this Web site, please call BIS's Office of Administration at (202) 482-1900 for assistance.

Dated: November 5, 2013.
Kevin J. Wolf,
Assistant Secretary for Export Administration.

Attachment 1

Proposed Fiscal Year 2015 Annual Materials Plan
Material | Unit | Quantity | Footnote
Sales/Upgrades/Disposals
Beryllium Metal | ST | 17.5 | (¹ ²)
Chromium, Ferro | ST | 23,500 | (²)
Chromium, Metal | ST | 150 | (²)
Manganese, Ferro | ST | 50,000 | (²)
Manganese, Metallurgical Grade | SDT | 100,000 | (²)
Talc | ST | 1,639 | (³)
Tin | MT | 804 | (¹)
Tungsten Metal Powder | LB W | 77,433 | (²)
Tungsten Ores and Concentrates | LB W | 3,000,000 | (²)
Acquisitions
CZT (Cadmium Zinc Tellurium substrates) | cm² | 40,000
TATB (Triamino-Trinitrobenzene) | LB | 16,000
Lithium Cobalt Oxide (LCO) | Kg | 150
Lithium Nickel Cobalt Aluminum Oxide (LNCAO) | Kg | 540
Mesocarbon Microbeads (MCMB) | Kg | 648
Ferroniobium | MT | 104.5
Dysprosium Metal | MT | 0.5
Yttrium Oxide | MT | 10
¹ Potential Upgrade.
² Potential Disposal.
³ Potential Disposal (Landfill).

[FR Doc. 2013-27154 Filed 11-12-13; 8:45 am]

BILLING CODE 3510-33-P